DEPARTMENT OF STATE

22 CFR Parts 121, 123, 124, 126, and 129

[Public Notice 11078]

International Traffic in Arms Regulations: U.S. Munitions List Categories; Preliminary Injunction Ordered by a Federal District Court

AGENCY: Department of State.

ACTION: Notification of preliminary injunction.

SUMMARY: The U.S. Department of State (the Department) is issuing this document to inform the public of a preliminary injunction ordered by a Federal district court on March 6, 2020, affecting the Department.

DATES: The court order was effective March 6, 2020.

FOR FURTHER INFORMATION CONTACT: For technical questions only: Sarah Heidema, Office of Defense Trade Controls Policy, Department of State, telephone (202) 663-2809; email DDTCPublicComments@state.gov.

SUPPLEMENTARY INFORMATION: On January 23, 2020, the Department published a final rule in the Federal Register at 85 FR 3819 that amends the International Traffic in Arms Regulations (ITAR) to revise Categories I, II, and III of the U.S. Munitions List (USML) and removes certain items that no longer warrant control. On the same date, the Department of Commerce published a companion final rule in the Federal Register at 85 FR 4136 that makes conforming changes to the Export Administration Regulations (EAR) to control the items removed from the USML. The final rules were to be effective March 9, 2020.

On January 23, 2020, several U.S. States filed a lawsuit in the United States District Court for the Western District of Washington (Civil Action No. 2:20-cv-00111) seeking a court order to prohibit the Departments of State and Commerce from implementing or enforcing the final rules described above. Plaintiff States subsequently filed a motion for a preliminary injunction.

On March 6, 2020, the District Court issued an “Order Granting in Part Plaintiff States' Motion for Preliminary Injunction.” This order states that the Department of State is enjoined “from implementing or enforcing the regulation entitled International Traffic in Arms Regulations: U.S. Munitions List Categories I, II, and III, 85 FR 3819 (Jan. 23, 2020) insofar as it alters the status quo restrictions on technical data and software directly related to the production of firearms or firearm parts using a 3D-printer or similar equipment.”

The Department of State is complying with the terms of this order. All persons engaged in manufacturing, exporting, temporarily importing, brokering, or furnishing defense services related to “technical data and software directly related to the production of firearms or firearm parts using a 3D-printer or similar equipment” must continue to treat such technical data and software as subject to control on the USML. All other items addressed in the final rules were transferred from the jurisdiction of the Department and the USML to the Department of Commerce and the Commerce Control List (CCL) on March 9, 2020.

Any further guidance and updates regarding the subject litigation will be posted on the DDTC website (pmddtc.state.gov) on an ongoing basis.

Michael F. Miller,
Deputy Assistant Secretary of State for Defense Trade Controls.

[FR Doc. 2020-05933 Filed 4-1-20; 8:45 am]

BILLING CODE 4710-25-P